DEPARTMENT OF HEALTH AND HUMAN SERVICES

Substance Abuse and Mental Health Services Administration

Advisory Committee for Women's Services; Notice of a Meeting

Pursuant to Public Law 92-463, notice is hereby given of a meeting of the Substance Abuse and Mental Health Services Administration's (SAMHSA's) Advisory Committee for Women's Services on September 14-15, 2008.

The meeting is open and will include an update on SAMHSA's programs and budget, a listening session on priority issues as identified by the Advisory Committee for Women's Services, and a presentation on gender responsive policies and practices.

Attendance by the public will be limited to the space available. Public comments are welcome. Please communicate with the Committee's Designated Federal Official, Ms. Carol Watkins (see contact information below), to make arrangements to comment or to request special accommodations for persons with disabilities.

Substantive program information, a summary of the meeting, and a roster of Committee members may be obtained either by accessing the SAMHSA Committee's Web site at https://www.nac.samhsa.gov/ as soon as possible after the meeting, or by contacting Ms. Watkins. The transcript for the meeting will also be available on the SAMHSA Committee's Web site within three weeks after the meeting.

Committee Name: SAMHSA Advisory Committee for Women's Services.

Date/Time/Type: Sunday, September 14, 2008, from 1 p.m.-5:30 p.m.: Open. Monday, September 15, 2008, from 10:30 a.m.-12 noon: Open.

Place: Marriott Tampa Waterside Hotel and Marina, 700 South Florida Avenue, Tampa, Florida 33602.

Contact: Carol Watkins, Designated Federal Official, SAMHSA Advisory Committee for Women's Services, 1 Choke Cherry Road, Room 8-1002, Rockville, Maryland 20857, Telephone: (240) 276-2254; FAX: (240) 276-1024, E-mail: carol.watkin2@samhsa.hhs.gov.

Toian Vaughn,
Committee Management Officer, Substance Abuse and Mental Health Services Administration.

[FR Doc. E8-20256 Filed 9-2-08; 8:45 am]

BILLING CODE 4162-20-P